DEPARTMENT OF AGRICULTURE

Forest Service

Black Hills National Forest Advisory Board

AGENCY: Forest Service, USDA.

ACTION: Announcement of meetings.

SUMMARY: The Black Hills National Forest Advisory Board (Board) will meet in Rapid City, South Dakota. The Board is established consistent with the Federal Advisory Committee Act of 1972, the Forest and Rangeland Renewable Resources Planning Act of 1974, the National Forest Management Act of 1976, and the Federal Public Lands Recreation Enhancement Act. Additional information concerning the Board, including meeting agendas and meeting summary/minutes, can be found by visiting the Board's website at: http://www.fs.usda.gov/main/blackhills/workingtogether/advisorycommittees.

DATES: The meeting will be held on Wednesday, January 8, 2020, from 1:00 p.m. to 4:30 p.m. All meetings are subject to cancellation. For updated status of meeting prior to attendance, please contact Scott Jacobson, Committee Coordinator, by phone at 605-673-9216 or by email at scott.j.jacobson@usda.gov.

ADDRESSES: The meeting will be held at the U.S. Forest Service, Mystic Ranger District Office, 8221 Mount Rushmore Road, Rapid City, South Dakota 57702.

Written comments may be submitted as described under SUPPLEMENTARY INFORMATION. All comments, including names and addresses, when provided, are placed in the record and available for public inspection and copying. The public may inspect comments received at the Black Hills National Forest Supervisor's Office. Please call ahead at 605-673-9216 to facilitate entry into the building.

FOR FURTHER INFORMATION CONTACT: Scott Jacobson, Committee Coordinator, by phone at 605-673-9216 or by email at scott.j.jacobson@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meetings is to provide advice and recommendations on a broad range of forest issues such as forest plan revisions or amendments, forest health including fire, insect and disease, travel management, forest monitoring and evaluation, recreation fees, and site specific projects having forest-wide implications. Specific agenda topics during CY2020 may include but are not limited to:

a. Black Hills Resilient Landscapes Project;

b. Motorized Trail Strategy;

c. Non-motorized Trails;

d. Recreation Site Analysis and Recreation Facilities;

e. Mining, and Gold Exploration;

f. Wildland Fire Preparedness and Response;

g. Forest management to include Timber program and Hazardous Fuels Reduction Treatments; and,

h. Wildlife, Range, Botany and Heritage Management Projects.

The meetings are open to the public. If time allows, the public may make oral statements of three minutes or less. Individuals wishing to make an oral statement should submit a request in writing by December 31, 2019, to be scheduled on the agenda. Anyone who would like to bring related matters to the attention of the Board may file written statements with the Board's staff before or after the meeting. Written comments and time requests for oral comments must be sent to Scott Jacobson, Black Hills National Forest Supervisor's Office, 1019 North Fifth Street, Custer, South Dakota 57730; by email to scott.j.jacobson@usda.gov, or via facsimile to 605-673-9208.

Meeting Accommodations: If you are a person requiring reasonable accommodation, please make requests in advance for sign language interpreting, assistive listening devices, or other reasonable accommodation for access to the facility or proceedings by contacting Scott Jacobson, Committee Coordinator, by phone at 605-673-9216 or by email at scott.j.jacobson@usda.gov. All reasonable accommodation requests are managed on a case by case basis.

Dated: November 7, 2019.
Cikena Reid,
USDA Committee Management Officer.

[FR Doc. 2019-27296 Filed 12-18-19; 8:45 am]

BILLING CODE 3411-15-P